SMALL BUSINESS ADMINISTRATION

[Declaration of Disaster #3578]

State of Iowa; Amendment #4

In accordance with a notice received from the Department of Homeland Security—Federal Emergency Management Agency, effective July 2, 2004, the above numbered declaration is hereby amended to include Appanoose, Davis, Des Moines, Hamilton, Henry, Louisa, Lucas, Monroe, Muscatine, Scott, Wapello, Washington, and Wayne Counties as disaster areas due to damages caused by severe storms, tornadoes, and flooding occurring on May 19, 2004, and continuing.

In addition, applications for economic injury loans from small businesses located in the contiguous counties of Decatur, Jefferson, Lee, and Van Buren in the State of Iowa; Henderson and Mercer Counties in the State of Illinois; and Mercer, Putnam, Schuyler, and Scotland Counties in the State of Missouri may be filed until the specified date at the previously designated location. All other counties contiguous to the above named primary counties have been previously declared.

All other information remains the same, i.e., the deadline for filing applications for physical damage is July 26, 2004, and for economic injury the deadline is February 25, 2005.

(Catalog of Federal Domestic Assistance Program Nos. 59002 and 59008)

Dated: July 2, 2004.
Cheri L. Cannon,
Acting Associate Administrator for Disaster Assistance.

[FR Doc. 04-15739 Filed 7-9-04; 8:45 am]

BILLING CODE 8025-01-P